DEPARTMENT OF HOMELAND SECURITY

Coast Guard

[USCG 2004-19483]

Review and Approval of Classification Societies

AGENCY: Coast Guard, DHS.

ACTION: Notice of policy; request for comments.

SUMMARY: This notice contains procedures the Coast Guard will use to review classification societies seeking Coast Guard approval to perform certain functions for vessels. Under the 2004 Coast Guard and Maritime Transportation Authorization Act, after January 1, 2005, classification societies may not perform those certain functions for vessels unless they are either approved by the Coast Guard or are full members of the International Association of Classification Societies. Class societies seeking Coast Guard approval should submit a package in accordance with the procedures in this notice. The Coast Guard also seeks public comment on the procedures described herein for reviewing and approving classification societies.

DATES: This notice of policy is effective November 2, 2004. Comments and related material must reach the Docket Management Facility on or before January 3, 2005.

ADDRESSES:

Application Process

Classification societies may request review and approval by writing to Commandant (G-MSE), 2100 Second Street, SW., Washington, DC 20593-0001.

Comment Submissions

You may submit comments identified by Coast Guard docket number USCG-2004-19483 to the Docket Management Facility at the U.S. Department of Transportation. To avoid duplication, please use only one of the following methods:

(1) Web site: http://dms.dot.gov.

(2) Mail: Docket Management Facility, U.S. Department of Transportation, 400 Seventh Street, SW., Washington, DC 20590-0001.

(3) Fax: (202) 493-2251.

(4) Delivery: Room PL-401 on the Plaza level of the Nassif Building, 400 Seventh Street, SW., Washington, DC, between 9 a.m. and 5 p.m., Monday through Friday, except Federal holidays. The telephone number is (202) 366-9329.

(5) Federal eRulemaking Portal: http://www.regulations.gov.

FOR FURTHER INFORMATION CONTACT: For questions on this notice of policy, contact Mr. William Peters, Office of Design and Engineering Standards, (G-MSE-2), Coast Guard, telephone 202-267-2988, e-mail: wpeters@comdt.uscg.mil.

SUPPLEMENTARY INFORMATION:

Background and Purpose

The criteria for classification society approval is based, in part, on the International Maritime Organization (IMO) Resolution A.739(18), “Guidelines for the Authorization of Organizations Acting on Behalf of the Administration.” Resolution A.739(18) establishes minimum requirements for Recognized Organizations (ROs) to act on the behalf of Administrations in the surveys and certification and determination of vessel tonnages as required by the applicable international conventions. After review and consideration, the Coast Guard deems Resolution A.739(18) to provide a sound and internationally recognized standard from which to base the review and approval program required by 46 U.S.C. 3316(c).

Classification societies often act as ROs because of the similarity in the technical and survey work these organizations perform. To be authorized under the resolution, an RO must satisfy the Administration that their business practices are aligned with the standards of Resolution A.739(18). The RO is required to publish and systematically maintain rules, be professionally staffed with strategically placed resources for geographic coverage, maintain a high level of professional ethics, be competent, provide timely and quality services, and maintain an internal quality system no less effective than ISO 9000 series certification.

In addition, the statute outlines additional requirements for approval as follows:

(1) Vessels surveyed by the classification society must have an adequate safety record;

(2) The classification society must have an adequate program to develop and implement safety standards for vessels it surveys;

(3) The classification society must have an adequate program to make their safety records available to the Secretary in an electronic format;

(4) The classification society must have a program to make the safety records of a vessel available to other classification societies (for the purpose of a specific vessel survey); and

(5) The classification society must have a program to request records from other classification societies that previously surveyed the vessel.

As further evidence of the adequacy of the safety record of item (2) above, the Coast Guard also requires that a classification society is an RO for at least one sovereign nation that is signatory to the International Safety of Life at Sea (SOLAS), MARPOL 73/78, the International Convention on Load Lines (ICLL), 1966, and the Protocol of 1988 relating to the ICLL, 1966.

Discussion of Notice of Policy

This notice of policy describes the approval process by which classification societies may comply with 46 U.S.C. 3316(c). This process includes approval criteria, review and approval procedures, and application procedures to assist classification societies to comply with this statute. This process differs from the requirements of 46 U.S.C. 3316(b) that establish criteria by which certain statutory functions may be delegated to the American Bureau of Shipping or other recognized classification societies.

Candidate Application Submittals

For the purposes of 46 U.S.C. 3316(c), a classification society desiring an approval may apply in writing to Commandant (G-MSE), 2100 Second Street, SW., Washington, DC 20593-0001. An application package (written in English) must:

(1) Indicate the type of work the classification society wishes to perform on vessels in the United States;

(2) Provide appropriate documentation proving that the classification society has applied for and received approval as an RO from at least one Administration that is signatory to SOLAS, MARPOL 73/78, Load Lines, 1966, and the Protocol of 1988 relating to Load Lines, 1966, under the provisions of IMO Resolution A.739(18);

(3) Demonstrate that the classification society operates as an RO on behalf of at least one Administration under a formal written agreement that includes all of the elements set out in Resolution A.739(18), Appendix 2;

(4) Demonstrate that the classification society maintains all of the minimum standards for ROs as set forth in Resolution A.739(18), Appendix 1;

(5) Demonstrate that the classification society is subject to a satisfactory system of verification and monitoring by at least one Administration, as set forth in the Annex to IMO Resolution A.739(18);

(6) Provide a list of the vessels surveyed by the classification society including vessel names, flags, and IMO numbers;

(7) Describe a system in which the classification society makes its safety records and those of persons acting on behalf of the classification society available to the Coast Guard in electronic format;

(8) Describe a system in which the classification society provides its safety records and those of persons acting on behalf of the classification society to another classification society that requests those records for the purpose of conducting surveys of vessels; and

(9) Describe a system in which the classification society or those persons acting on its behalf are capable of requesting the safety records of a vessel to be surveyed from any other classification society that previously surveyed a vessel.

On or after January 1, 2005, a classification society (including an employee or agent of that society) may not review, examine, survey, or certify the construction, repair, or alteration of a vessel in the United States unless it is a full member of the International Association of Classification Societies (IACS) or is approved by the Coast Guard.

Classification societies authorized to perform work on behalf of the United States under the provisions of 46 U.S.C. 3316(b) and all full members of IACS are approved to perform functions otherwise prohibited by 46 U.S.C. 3316(c).

Comments and Viewing Documents Referenced in This Notice

If you wish to submit comments regarding this notice, please send them to the Docket Management Facility at the address under ADDRESSES. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this rulemaking (USCG-2004-19483), indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We will review this policy and may amend it in view of comments received.

Viewing Comments and Documents

To view comments, as well as documents mentioned in this preamble as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Dated: October 28, 2004.
Howard L. Hime,
Acting Director of Standards, Marine Safety, Security and Environmental Protection, U.S. Coast Guard.

[FR Doc. 04-24453 Filed 10-29-04; 11:40 am]

BILLING CODE 4910-15-P